DEPARTMENT OF COMMERCE

Bureau of Industry and Security

15 CFR Part 730

[Docket No. 140613501-5956-03]

RIN 0694-AG13

Export Administration Regulations: Removal of Special Comprehensive License Provisions

AGENCY: Bureau of Industry and Security, Commerce.

ACTION: Final rule; correcting amendment.

SUMMARY: The Bureau of Industry and Security (BIS) publishes this final rule to amend the Export Administration Regulations (EAR) Supplement that lists “Information Collection Requirements Under the Paperwork Reduction Act: OMB Control Numbers” to remove certain citations related to Special Comprehensive Licenses listed under Collection number 0607-0152. This final rule is precipitated by an error contained in a final rule published on August 26, 2015 that resulted in the retention of these citations. This action will ensure the accurate and complete implementation of the purposes of the August 26, 2015 final rule: To remove all Special Comprehensive License provisions and related provisions from the EAR.

DATES: This rule is effective November 16, 2015.

FOR FURTHER INFORMATION CONTACT: Thomas Andrukonis, Director, Export Management and Compliance, Office of Exporter Services, Bureau of Industry and Security, by telephone at (202) 482-6396 or by email at Thomas.Andrukonis@bis.doc.gov.

SUPPLEMENTARY INFORMATION: On August 26, 2015, the Bureau of Industry and Security (BIS) published the final rule “Export Administration Regulations: Removal of Special Comprehensive License Provisions” (80 FR 51725), effective September 25, 2015. In that rule, BIS amended the Export Administration Regulations (EAR) by removing the Special Comprehensive License (SCL) provisions and made conforming amendments.

The August 26 rule included amendatory instructions to revise or remove certain Collection numbers in Supplement No. 1 to part 730 (Information Collection Requirements Under the Paperwork Reduction Act: OMB Control Numbers). However, the amendatory instruction erroneously identified Collection number “0607-0152” as Collection number “0694-0152,” and as a result, the entry for Collection number 0607-0152 was not amended. In this final rule, BIS amends the Supplement by revising Collection number “0607-0152” to remove references to “§§ 752.7(b) and 752.15(a)” under the “Reference in the EAR” Column as originally intended. This correction will ensure the accurate and complete implementation of the purposes of the August 26, 2015 final rule: To remove all the SCL provisions and related provisions from the EAR.

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 7, 2015, 80 FR 48233 (August 11, 2015), has continued the Export Administration Regulations in effect under the International Emergency Economic Powers Act. BIS continues to carry out the provisions of the Export Administration Act, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This rule has been determined to be a not significant regulatory action for purposes of Executive Order 12866.

2. This rule does not contain an information collection subject to the requirements of the Paperwork Reduction Act of 1995 (44 U.S.C. 3501 et seq.). Notwithstanding any other provision of the law, no person is required to respond to, nor shall any person be subject to a penalty for failure to comply with, a collection of information subject to the requirements of the PRA, unless that collection of information displays a currently valid OMB Control Number.

3. This rule does not contain policies with Federalism implications as that term is defined under Executive Order 13132.

4. The provisions of the Administrative Procedure Act (5 U.S.C. 553) requiring notice of proposed rulemaking and the opportunity for public participation are waived for good cause because they are unnecessary and contrary to the public interest. (See 5 U.S.C. 553(b)(B)). The changes contained in this rule are technical corrections of a previously published final rule. This rule is necessary to prevent confusion caused by the continued inclusion in Supplement No. 1 to part 730 of references to the sections of the EAR that were removed by the August 26, 2015 rule. Collection number, “0607-0152,” needs to be revised for purposes of removing all the SCL provisions from the EAR. Therefore, this change is essential to ensure the accurate and complete implementation of the changes intended by the August 26, 2015 final rule.

The provision of the Administrative Procedure Act (5 U.S.C. 553) requiring a 30-day delay in effectiveness is also waived for good cause. (5 U.S.C. 553(d)(3)). The correction contained in this final rule is merely a technical correction necessitated by a typographical error in a previously published rule, for which a notice, comment and delay were completed. The revisions made in this rule are technical corrections which should be in place as soon as possible to avoid confusion caused by the incorrect inclusion of references to sections of the EAR removed by the August 26, 2015 rule in OMB Collection number 0607-0152 in Supplement No. 1 to part 730. This change is necessary to ensure immediate, accurate and complete implementation of the purposes of the August 26, 2015 final rule.

Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form.

List of Subjects in CFR Part 730

Administrative practice and procedure, Advisory committees, Exports, Reporting and recordkeeping requirements, Strategic and critical materials.

For the reasons stated in the preamble, part 730 of the Export Administration Regulations (15 CFR parts 730-774) is amended as follows:

PART 730—[AMENDED]

1. The authority citation for 15 CFR part 730 continues to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; E.O. 13338, 69 FR 26751, 3 CFR, 2004 Comp., p 168; E.O. 13637 of March 8, 2013, 78 FR 16129 (March 13, 2013); Notice of September 17, 2014, 79 FR 56475 (September 19, 2014); Notice of November 7, 2014, 79 FR 67035 (November 12, 2014); Notice of January 21, 2015, 80 FR 3461 (January 22, 2015); Notice of May 6, 2015, 80 FR 26815 (May 8, 2015); Notice of August 7, 2015, 80 FR 48233 (August 11, 2015); Notice of September 18, 2015, 80 FR 57281 (September 22, 2015).

Supplement No. 1 to Part 730—[Amended]

2. Supplement No. 1 to part 730 is amended by revising the entry for Collection number “0607-0152” to read as follows:

Supplement No. 1 to Part 730—Information Collection Requirements Under the Paperwork Reduction Act: OMB Control Numbers
* * * * * * *
Collection No. | Title | Reference in the EAR
* * * * * * *
0607-0152 | Automated Export System (AES) Program | §§ 740.1(d), 740.3(a)(3), 754.2(h), 754.4(c), 758.1, 758.2, and 758.3 of the EAR.

Dated: November 5, 2015.
Karen H. Nies-Vogel,
Director, Office of Exporter Services.

[FR Doc. 2015-29084 Filed 11-13-15; 8:45 am]

BILLING CODE 3510-33-P